DEPARTMENT OF TRANSPORTATION

Office of the Secretary

Aviation Proceedings, Agreements Filed During the Week Ending November 9, 2001

The following Agreements were filed with the Department of Transportation under the provisions of 49 U.S.C. sections 412 and 414. Answers may be filed within 21 days after the filing of the application.

Docket Number: OST-2001-10957.

Date Filed: November 5, 2001.

Parties: Members of the International Air Transport Association.

Subject: PTC2 EUR 0442 dated 6 November 2001; PTC2 EUR-AFR 0140 dated 6 November 2001; PTC2 EUR-ME 0122 dated 6 November 2001; Mail Vote 179—Resolution 010m; TC2 Special Passenger Amending Resolution from Tunisia to Africa, Europe, Middle East; Intended effective date: 10 November 2001.

Docket Number: OST-2001-10963.

Date Filed: November 6, 2001.

Parties: Members of the International Air Transport Association.

Subject: PTC23 Africa-TC3 0134 dated 26 October 2001; Africa-South Asian Subcontinent Expedited Resolutions r1-r4; PTC23 Africa-TC3 0135 dated 26 October 2001; Africa-South West Pacific Expedited Resolutions r5-r6; Intended effective date: 1 December 2001.

Docket Number: OST-2001-10964.

Date Filed: November 6, 2001.

Parties: Members of the International Air Transport Association.

Subject: PTC23 EUR-JK 0072 dated 2 November 2001; Europe-Japan/Korea Expedited Resolution 002LL r1; PTC23 EUR-JK 0073 dated 2 November 2001; Europe-Japan/Korea Expedited Resolutions r2-r7; Intended effective date: 15 December 2001/1 January 2002.

Docket Number: OST-2001-10965.

Date Filed: November 6, 2001.

Parties: Members of the International Air Transport Association.

Subject: PTC23 AFR-TC3 0143 dated 9 November 2001; Mail Vote 173—Resolution 010f; TC23/TC123 Africa-South East Asia Special Passenger Amending Resolution; Intended effective date: 1 December 2001.

Docket Number: OST-2001-10966.

Date Filed: November 6, 2001.

Parties: Members of the International Air Transport Association.

Subject: PTC23 AFR-TC3 0144 dated 9 November 2001; Mail Vote 174—Resolution 010g; TC23/TC123 Africa-Japan/Korea Special Passenger Amending Resolution; Intended effective date: 1 December 2001.

Docket Number: OST-2001-10978.

Date Filed: November 8, 2001.

Parties: Members of the International Air Transport Association.

Subject: PTC23 ME-TC3 0126 dated 30 October 2001; Middle East-TC3 (except South East Asia) Resolutions r1-r46; Minutes—PTC23 ME-TC3 0124 dated 30 October 2001; Tables—PTC23 ME-TC3 Fares 0056 dated 2 November 2001; Intended effective date: 1 April 2002.

Dorothy Y. Beard,
Federal Register Liaison.

[FR Doc. 01-29371 Filed 11-23-01; 8:45 am]

BILLING CODE 4910-62-P